CONSUMER PRODUCT SAFETY COMMISSION

Petition HP 00-3 Requesting a Ban of Candle Wicks Containing Lead and of Candles Containing Such Wicks

AGENCY: Consumer Product Safety Commission.

ACTION: Notice.

SUMMARY: The Commission has received two submissions, one from Public Citizen and one jointly from the National Apartment Association (NAA) and the National Multi Housing Council (NMHC), that contain requests that the Commission ban lead-containing candles and wicks sold for candle-making that contain lead. These requests have been docketed collectively as a petition under the Federal Hazardous Substances Act (FHSA) (Petition No. HP 00-3). The Commission solicits written comments concerning the petition from all interested parties.

DATES: Comments on the petition should be received in the Office of the Secretary by June 12, 2000.

ADDRESSES: Comments on the petition should be mailed to the Office of the Secretary, Consumer Product Safety Commission, Washington, DC 20207, telephone (301) 504-0800, or delivered to the Office of the Secretary, Consumer Product Safety Commission, room 502, 4330 East-West Highway, Bethesda, Maryland 20814. Comments may also be filed by telefacsimile to (301) 504-0127 or by email to cpsc-os@cpsc.gov. Comments should be captioned “Petition HP 00-3—Candle Wicks Containing Lead.” Copies of the petition are available by writing or calling the Office of the Secretary.

FOR FURTHER INFORMATION CONTACT: Rockelle Hammond, Docket Control and Communications Specialist, Consumer Product Safety Commission, Washington, DC 20207; telephone: (301) 504-0800 ext. 1502.

SUPPLEMENTAL INFORMATION: The Commission has received two submissions, one from Public Citizen and one jointly from the National Apartment Association (NAA) and the National Multi Housing Council (NMHC), that request the Commission to ban lead-containing candles and wicks sold for candle-making that contain lead. These have been docketed collectively as a petition under the Federal Hazardous Substances Act (FHSA) (Petition No. HP 00-3). The submissions argue that the lead in candle wicks produces hazardous combustion materials when the candles are used, creating a lead poisoning hazard for occupants, particularly children.

Public Citizen's submission also asked that the Commission recall such products. This request has not been docketed as part of the petition because this action does not require rulemaking. (This request will be considered separately by the Office of Compliance.) In addition, Public Citizen's submission asked that the Commission ban candles in metal containers that contain lead. This request has not been docketed as part of the petition because the submission did not provide facts to explain why such action is necessary, as required by the Commission's rules for petitions, 16 CFR 1051.5(a)(4).

The Commission solicits comments on the petition, particularly regarding the potential costs and benefits of the requested rule.

Comments to CPSC should be mailed, preferably in five copies, to the Office of the Secretary, Consumer Product Safety Commission, Washington, DC 20207-0001, or delivered to the Office of the Secretary, Consumer Product Safety Commission, Room 502, 4330 East-West Highway, Bethesda, Maryland; telephone (301) 504-0800. Comments may also be filed by telefacsimile to (301) 504-0127 or by email to cpsc-os@cpsc.gov. Comments should be captioned “Petition HP 00-3—Candle Wicks Containing Lead.”

Interested parties may obtain a copy of the petition from the CPSC's website at http://www.cpsc.gov or by writing or calling the Office of the Secretary, Consumer Product Safety Commission, Washington, DC 20207; telephone (301) 504-0800. A copy of the petition is available for inspection from 8:30 a.m. to 5 p.m., Monday through Friday, in the Commission's Public Reading Room, room 501, 4330 East-West Highway, Bethesda, Maryland 20814.

Dated: April 5, 2000.
Sadye E. Dunn,
Secretary, Consumer Product Safety Commission.

[FR Doc. 00-9013 Filed 4-11-00; 8:45 am]

BILLING CODE 6355-01-P